DEPARTMENT OF JUSTICE

Notice of Proposed Settlement Agreement Under the Clean Air Act

On December 31, 2024, the Department of Justice lodged a proposed Consent Decree in the civil action United States v. White's Diesel Performance In. [sic] d/b/a White's Diesel Performance Inc. and White's Diesel, Civ. No. 8:24-cv-01791-SDM-SPF (M.D. Fla.). The complaint alleged that those defendants sold or installed illegal devices intended to defeat factory-installed pollution control devices, in violation of the Clean Air Act. The Consent Decree prohibits the defendants from selling or installing such devices in the future and requires the settling defendants to pay a civil penalty of $10,000, based on the defendants' limited financial ability to pay a larger sum.

The publication of this notice opens a period for public comment on the Settlement Agreement. Comments should be addressed to the Assistant Attorney General, Environment and Natural Resources Division, and should refer to Settlement Agreement among the United States and White's Diesel Performance, Inc., D.J. Ref. No. 90-5-2-1-12438. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined at and downloaded from this Justice Department website: https://www.justice.gov/enrd/consent-decrees. If you require assistance accessing the Consent Decree you may request assistance by email or by mail to the addresses provided above for submitting comments.

Scott Bauer,
Assistant Section Chief, Environmental Enforcement Section, Environment and Natural Resources Division.

[FR Doc. 2024-31760 Filed 1-3-25; 8:45 am]

BILLING CODE 4410-15-P